DEPARTMENT OF TRANSPORTATION

Federal Aviation Administration

14 CFR Part 39

[Docket No. FAA-2013-0835; Directorate Identifier 2013-NM-095-AD]

RIN 2120-AA64

Airworthiness Directives; Bombardier Inc., Airplanes

AGENCY: Federal Aviation Administration (FAA), DOT.

ACTION: Notice of proposed rulemaking (NPRM).

SUMMARY: We propose to adopt a new airworthiness directive (AD) for certain Bombardier, Inc. Model DHC-8-102, -103, -106, -201, -202, -301, -311, and -315 airplanes. This proposed AD results from fuel system reviews conducted by the manufacturer. This proposed AD would require accomplishing modifications to the fuel system. We are proposing this AD to prevent the potential of ignition sources inside fuel tanks, which, in combination with flammable fuel vapors, could result in fuel tank explosions and consequent loss of the airplane.

DATES: We must receive comments on this proposed AD by November 18, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., Q-Series Technical Help Desk, 123 Garratt Boulevard, Toronto, Ontario M3K 1Y5, Canada; telephone 416-375-4000; fax 416-375-4539; email thd.qseries@aero.bombardier.com; Internet http://www.bombardier.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Morton Lee, Propulsion Engineer, Propulsion & Services Branch, ANE-173; FAA, New York Aircraft Certification Office, 1600 Stewart Avenue, Suite 410, Westbury, New York 11590; telephone 516-228-7355; fax 516-794-5531.

SUPPLEMENTARY INFORMATION:

Comments Invited

We invite you to send any written relevant data, views, or arguments about this proposed AD. Send your comments to an address listed under the ADDRESSES section. Include “Docket No. FAA-2013-0835; Directorate Identifier 2013-NM-095-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, combination of failures, and unacceptable (failure) experience. For all three failure criteria, the evaluations included consideration of previous actions taken that may mitigate the need for further action.

We have determined that the actions identified in this AD are necessary to reduce the potential of ignition sources inside fuel tanks, which, in combination with flammable fuel vapors, could result in fuel tank explosions and consequent loss of the airplane.

Transport Canada Civil Aviation (TCCA), which is the aviation authority for Canada, has issued Canadian Airworthiness Directive CF-2013-07, dated March 1, 2013 (referred to after this as the Mandatory Continuing Airworthiness Information, or “the MCAI”), to correct an unsafe condition for the specified products. The MCAI states:

Bombardier Aerospace has completed a system safety review of the aeroplane fuel system against fuel tank safety standards * * *. The identified non-compliances were then assessed * * * to determine if mandatory corrective action is required.

The assessment showed that a number of modifications to the fuel system are required to mitigate unsafe conditions that could result in potential ignition sources within the fuel system.

* * * * *

You may obtain further information by examining the MCAI in the AD docket.

Relevant Service Information

Bombardier Inc. has issued the following service bulletins. The actions described in this service information are intended to correct the unsafe condition identified in the MCAI.

• Bombardier Service Bulletin 8-28-35, Revision C, dated January 14, 2013.

• Bombardier Service Bulletin 8-28-36, Revision C, dated October 7, 2009.

• Bombardier Service Bulletin 8-28-39, Revision B, dated August 19, 2009.

• Bombardier Service Bulletin 8-28-41, Revision B, dated August 8, 2012.

• Bombardier Service Bulletin 8-28-42, Revision A, dated October 1, 2008.

• Bombardier Service Bulletin 8-28-43, Revision A, dated June 25, 2009.

• Bombardier Service Bulletin 8-28-44, Revision B, dated July 25, 2009.

• Bombardier Service Bulletin 8-28-47, dated May 2, 2008.

• Bombardier Service Bulletin 8-28-48, Revision A, dated February 27, 2012.

• Bombardier Service Bulletin 8-28-49, Revision A, dated July 23, 2012.

• Bombardier Service Bulletin 8-28-52, dated November 3, 2009.

• Bombardier Service Bulletin 8-28-53, dated November 3, 2008.

• Bombardier Service Bulletin 8-28-55, dated July 23, 2012.

• Bombardier Service Bulletin 8-28-56, dated July 23, 2012.

• Bombardier Service Bulletin 8-28-58, dated July 25, 2011.

• Bombardier Service Bulletin 8-57-44, Revision D, dated October 8, 2008.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 94 airplanes of U.S. registry. We estimate the following costs to comply with this proposed AD:

Estimated Costs
Action | Labor cost | Parts cost | Cost per product | Cost on U.S. operators
Modifications | 519 work-hours × $85 per hour = $44,115 | $58,924 | $103,039 | $9,685,666

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2013-0835; Directorate Identifier 2013-NM-095-AD.

(a) Comments Due Date

We must receive comments by November 18, 2013.

(b) Affected ADs

None.

(c) Applicability

This AD applies to Bombardier, Inc. Model DHC-8-102, -103, -106, -201, -202, -301, -311, and -315 airplanes; certificated in any category; serial numbers (S/Ns) 002 through 672.

(d) Subject

Air Transport Association (ATA) of America Code 28, Fuel.

(e) Reason

This AD was prompted by results from fuel system reviews conducted by the manufacturer. We are issuing this AD to prevent the potential of ignition sources inside fuel tanks, which, in combination with flammable fuel vapors, could result in fuel tank explosions and consequent loss of the airplane.

(f) Compliance

You are responsible for having the actions required by this AD performed within the compliance times specified, unless the actions have already been done.

(g) Modifications—Part I

Within 6,000 flight hours or 36 months, whichever occurs first, after the effective date of this AD, do the modifications specified in paragraphs (g)(1) through (g)(14) of this AD, as applicable.

(1) For airplanes having S/Ns 003 through 624 inclusive: Accomplish Modsum 8Q101512, “Fuel System—Fuel Tank Mechanical Design, SFAR 88 Compliance (Retrofit),” Revision G, in accordance with the Accomplishment Instructions of Bombardier Service Bulletin 8-57-44, Revision D, dated October 8, 2008.

(2) For airplanes having S/Ns 003 through 629 inclusive on which a long range fuel system has been installed as specified in Change Request (CR) 828CH00044, CR828SO08061, Special Order Option (SOO) 8061, CR828CH00027, or CF828SO00006: Accomplish Bombardier Modsum 8Q902091, “Fuel System—Fuel Tank Mech. Design, SFAR 88 Compl.—Extended Range Tank Option (Retrofit),” Revision C, in accordance with the Accomplishment Instructions of Bombardier Service Bulletin 8-28-39, Revision B, dated August 19, 2009.

(3) For airplanes having S/Ns 003 through 624 inclusive on which SOO 8155, 849SO08155, SOO 8098, SOO 8099, or SOO 6082; or Supplemental Type Certificate SA85-1; or Limited Supplemental Type Certificate W-LSA98-005/D has been incorporated: Accomplish Bombardier Modsum 8Q902144, “Fuel System—Fuel Tank Mechanical Design, SFAR 88 Compliance—APU Option (Retrofit),” Revision E, in accordance with the Accomplishment Instructions of Bombardier Service Bulletin 8-28-44, Revision B, dated July 25, 2009.

(4) For airplanes having S/Ns 003 through 624 inclusive: Accomplish Bombardier Modsum 8Q101865, “Fuel System—Fuel Tank Mechanical Design, SFAR 88 Compliance (Retrofit),” Revision B, in accordance with the Accomplishment Instructions of Bombardier Service Bulletin 8-28-47, dated May 2, 2008.

(5) For Models DHC-8-102, -103, and -106 having S/Ns 002 through 014 inclusive: Accomplish Bombardier Modsum 8Q101916, “Fuel System—Fuel Tank Secondary Pressure Relief Valve Rework SFAR 88 Compliance (Retrofit),” Revision A, in accordance with the Accomplishment Instructions of Bombardier Service Bulletin 8-28-58, dated July 25, 2011.

(6) For airplanes having S/Ns 002 through 629 inclusive on which a long range fuel system has been installed as specified in CR828CH00044, CR828SO08061, SOO 8061, CR828CH00027, or CR828SO00006, including airplanes on which metric refuel/defuel indicators were installed as specified in CR828CH00029: Accomplish Bombardier Modsum 8Q902122, “Production/Retrofit—Fuel System—Long Range Wiring Installation—SFAR 88 Compliance,” Revision F, in accordance with the Accomplishment Instructions of Bombardier Service Bulletin 8-28-41, Revision B, dated August 8, 2012.

(7) For airplanes having S/Ns 002 through 619 inclusive with imperial refuel/defuel indicators, excluding airplanes on which a long range fuel system has been installed as specified in CF828CH00044, CR828SO08061, SOO 0861, CF828CH00027, or CR828SO00006: Accomplish Bombardier Modsum 8Q101511, “Production/Retrofit—Fuel System—Fuel Tank Wiring Installation—SFAR88 Compliance,” Revision C, in accordance with the Accomplishment Instruction of Bombardier Service Bulletin 8-28-35, Revision C, dated January 14, 2013.

(8) For airplanes having S/Ns 002 through 619 inclusive on which metric refuel/defuel indicators have been installed as specified in CR828CH00020, excluding airplanes on which a long range fuel system has been installed as specified in CR828CH00044, CF828SO08061, SOO 8061, CR828CH00027, or CR828SO00006: Accomplish Bombardier Modsum 8Q901117, “Production/Retrofit—Fuel System—Metric Indication—Fuel Tank Wiring Installation—SFAR 88,” Revision C, in accordance with the Accomplishment Instructions of Bombardier Service Bulletin 8-28-43, Revision A, dated June 25, 2009.

(9) For airplanes having S/Ns 003 through 619 inclusive, excluding airplanes that have incorporated Modsum 8Q101652 in accordance with the Accomplishment Instructions of Bombardier Service Bulletin 8-28-36, Revision A, dated November 17, 2006; or Revision B, dated February 12, 2008: Accomplish Bombardier Modsum 8Q101652, “Electrical—Fuel Quantity Indication Wire Routing Segregation and Identification,” Revision F, in accordance with the Accomplishment Instructions of Bombardier Service Bulletin 8-28-36, Revision C, dated October 7, 2009. In addition, for Models DHC-8-102, -103, -106, -201, and -202 airplanes on which an active noise and vibration suppression (ANVS) system has been installed, and on which Modsum 8Q101652 has been incorporated in accordance with the Accomplishment Instructions of Bombardier Service Bulletin 8-28-36, Revision A, dated November 17, 2006; or Revision B, dated February 12, 2008: Do the actions specified in paragraph (h)(1) of this AD.

(10) For airplanes having S/Ns 003 through 672 inclusive on which Modsum 8Q101513 or 8Q101652 has been installed as specified in CR828CH00044, CR828SO08061, SOO 8061, CR828CH00027, or CR828CO00006, excluding airplanes having a long range fuel system: Accomplish Bombardier Modsum 8Q101907, “Fuel System—Fuel Qty Ind., Wire Routing Segregation, Installation of Top Hat Support—SFAR88 (Standard Aircraft),” Revision B, in accordance with the Accomplishment Instructions of Bombardier Service Bulletin 8-28-48, Revision A, dated February 27, 2012.

(11) For airplanes having S/Ns 003 through 619, excluding airplanes on which a long range fuel system has been installed as specified in CR828CH00044, CR828SO08061, SOO 8061, CR828CH00027, or CR828SO00006, and excluding airplanes on which Modsum 8Q101652 was incorporated in accordance with the Accomplishment Instructions in Bombardier Service Bulletin 8-28-36, Revision A, dated November 17, 2006; Revision B, dated February 12, 2008, or Revision C, dated October 7, 2009: Accomplish Modsum 8Q101908, “Fuel System—Fuel Qty Ind., Wire Routing Segregation, Installation of Dual Spacers—SFAR88 (Standard A/C),” Revision B, in accordance with the Accomplishment Instruction of Bombardier Service Bulletin 8-28-55, dated July 23, 2012. In addition, for airplanes on which Modsum 8Q101652 was incorporated in accordance with the Accomplishment Instructions of Bombardier Service Bulletin 8-28-36, dated August 9, 2006; Revision A, dated November 17, 2006; Revision B, dated February 12, 2008; or Revision C, dated October 7, 2009: Do the actions in paragraph (i)(1) of this AD.

(12) For airplanes having S/Ns 002 through 629 inclusive, on which a long range fuel system has been installed as specified in CR828CH00044, CR828SO08061, SOO 8061, CF828CH00027, or CR828SO00006, excluding airplanes on which Modsum 8Q902064 has been incorporated in accordance with the Accomplishment Instructions contained in Bombardier Service Bulletin 8-28-42: Accomplish Bombardier Modsum 8Q902064, “Electrical—Long Range Fuel Quantity Indication Wire Routing Segregation and Identification—SFAR 88,” Revision G, in accordance with the Accomplishment Instructions of Bombardier Service Bulletin 8-28-42, Revision A, dated October 1, 2008.

(13) For airplanes having S/Ns 003 through 672 inclusive on which a long range fuel system has been installed as specified in CR828CH00044, CR828SO08061, SOO 8061, CR828CH00027, or CR828SO00006; and with Modsum 8Q902064 and either Modsum 8Q101513 or Modsum 8Q101652: Accomplish Bombardier Modsum 8Q902382, “Fuel System—Fuel Qty Ind., Wire Routing Segregation, Installation of Top Hat Support—SFAR88 (Long Range Aircraft),” Revision B, in accordance with the Accomplishment Instructions of Bombardier Service Bulletin 8-28-49, Revision A, dated July 23, 2012.

(14) For airplanes having S/Ns 003 through 629 inclusive on which a long range fuel system has been installed as specified in CR828CH00044, CR828SO08061, SOO 8061, CR828CH00027, or CR828SO00006, excluding airplanes on which Modsum 8Q902064 has been incorporated in accordance with the Accomplishment Instructions of Bombardier Service Bulletin 8-28-42, dated December 21, 2008 or Revision A, dated October 1, 2008: Accomplish Bombardier Modsum 8Q902383, “Fuel System—Fuel Qty Ind., Wire Routing Segregation, Installation of Dual Spacers—SFAR88 (Long Range A/C),” Revision B, including installing dual spacers inside the center fuselage at certain locations, in accordance with the Accomplishment Instructions of Bombardier Service Bulletin 8-28-56, dated July 23, 2012.

(h) Inspections, Modifications, and Corrective Actions—Part II

For the airplanes identified in paragraphs (h)(1), (h)(2), or (h)(3) of this AD: Within 12,000 flight hours or 72 months, whichever occurs first, after the effective date of this AD, do the actions specified in paragraphs (h)(1), (h)(2), and (h)(3) of this AD, as applicable.

(1) For Model DHC-8-102, -103, -106, -201, and -202 airplanes having S/Ns 003 through 619 inclusive, on which an ANVS system has been installed and on which Modsum 8Q101652 has been incorporated in accordance with the Accomplishment Instructions of Bombardier Service Bulletin 8-28-36, dated August 9, 2006; or Revision A, dated November 17, 2006; or Revision B, dated February 12, 2008: Accomplish Bombardier Modsum 8Q101652, “Electrical—Fuel Quantity Indication Wire Routing Segregation and Identification,” Revision F, in accordance with the Accomplishment Instructions of Bombardier Service Bulletin 8-28-36, Revision C, dated October 7, 2009.

(2) For Model DHC-8-102, -103, -106, -201, and -202 airplanes having S/Ns 002 through 629 inclusive, on which an ANVS system has been installed and on which Modsum 8Q902064 has been incorporated in accordance with the Accomplishment Instructions of Bombardier Service Bulletin 8-28-42, dated December 21, 2008: Accomplish Bombardier Modsum 8Q902064, “Electrical—Long Range Fuel Quantity Indication Wire Routing Segregation and Identification—SFAR 88,” Revision G, in accordance with the Accomplishment Instructions of Bombardier Service Bulletin 8-28-42, Revision A, dated October 1, 2008.

(3) For Model DHC-8-102, -103, -106, -201, and -202 airplanes having S/Ns 620 through 666 inclusive, on which an ANVS system has been installed: Do a one-time visual inspection to determine whether the fuel quantity indicating system (FQIS) wiring harness is routed correctly and relocate if necessary, in accordance with the Accomplishment Instructions of Bombardier Service Bulletin 8-28-52, dated November 3, 2009.

(i) Wire Routing Segregation and Installation of Dual Spacers—Part III

Within 18,000 flight hours or 108 months, whichever occurs first, after the effective date of this AD, do the modification specified in paragraphs (i)(1) and (i)(2) of this AD, as applicable.

(1) For airplanes having S/Ns 003 through 672 inclusive, on which Modsum 8Q101513 has been incorporated or on which Modsum 8Q101652 has been incorporated in accordance with the Accomplishment Instructions of Bombardier Service Bulletin 8-28-36, dated August 9, 2006; Revision A, dated November 17, 2006; Revision B, dated February 12, 2008; or Revision C, dated October 7, 2009; excluding airplanes on which a long-range fuel system has been installed as specified in CF828CH00044, CR828SO08061, SOO 8061, CR828CH00027, or CR828SO00006: Accomplish Bombardier Modsum 8Q101908, “Fuel System—Fuel Qty Ind., Wire Routing Segregation, Installation of Dual Spacers—SFAR88 (Standard A/C),” Revision B, including installing dual spacers inside certain center fuselage locations, in accordance with the Accomplishment Instructions of Bombardier Service Bulletin 8-28-55, dated July 23, 2012.

(2) For airplanes having S/Ns 003 through 672 inclusive on which a long-range fuel system has been installed as specified in CF828CH00044, CR828SO08061, SOO 8061, CR828CH00027, or CR828SO00006, and on which Modsum 8Q902064 has been incorporated, or on which Modsum 8Q902064 has been incorporated in accordance with the Accomplishment Instructions of Bombardier Service Bulletin 8-28-42, dated December 21, 2008; or Revision A, dated October 1, 2008: Accomplish Bombardier Modsum 8Q902383, “Fuel System—Fuel Qty Ind., Wire routing Segregation, Installation of Dual Spacers—SFAR88 (Long Range A/C),” Revision B, including installing dual spacers inside certain center fuselage locations, in accordance with the Accomplishment Instructions of Bombardier Service Bulletin 8-28-56, dated July 23, 2012.

(j) Credit for Previous Actions

(1) This paragraph provides credit for actions required by paragraph (g)(2) of this AD, if those actions were performed before the effective date of this AD using Bombardier Service Bulletin 8-28-39, Revision A, March 15, 2007.

(2) This paragraph provides credit for actions required by paragraph (g)(3) of this AD, if those actions were performed before the effective date of this AD using Bombardier Service Bulletin 8-28-44, dated August 9, 2006; or Revision A, dated November 15, 2006.

(3) This paragraph provides credit for actions required by paragraph (g)(6) of this AD, if those actions were performed before the effective date of this AD using Bombardier Service Bulletin 8-28-41, Revision A, dated April 11, 2007.

(4) This paragraph provides credit for actions required by paragraph (g)(8) of this AD, if those actions were performed before the effective date of this AD using Bombardier Service Bulletin 8-28-43, dated August 10, 2006.

(5) This paragraph provides credit for actions required by paragraph (g)(10) of this AD, if those actions were performed before the effective date of this AD using Bombardier Service Bulletin 8-28-48, dated October 1, 2010.

(6) This paragraph provides credit for actions required by paragraph (g)(13) of this AD, if those actions were performed before the effective date of this AD using Bombardier Service Bulletin 8-28-49, dated October 1, 2010.

(7) This paragraph provides credit for actions required by paragraph (h)(3) of this AD, if those actions were performed before the effective date of this AD using Bombardier Service Bulletin 8-28-53, dated November 3, 2008.

(k) Other FAA AD Provisions

The following provisions also apply to this AD:

(1) Alternative Methods of Compliance (AMOCs): The Manager, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to Mandatory Continuing Airworthiness Information (MCAI) Canadian Airworthiness Directive CF-2013-07, dated March 1, 2013, for related information, which can be found in the AD docket on the internet at http://www.regulations.gov.

(2) For service information identified in this AD, contact Bombardier, Inc., Q-Series Technical Help Desk, 123 Garratt Boulevard, Toronto, Ontario M3K 1Y5, Canada; telephone 416-375-4000; fax 416-375-4539; email thd.qseries@aero.bombardier.com; Internet http://www.bombardier.com. You may review copies of this service information at the FAA, Transport Airplane Directorate, 1601 Lind Avenue SW., Renton, WA. For information on the availability of this material at the FAA, call 425-227-1221.

Issued in Renton, Washington, on September 19, 2013.
Ross Landes,
Acting Manager, Transport Airplane Directorate, Aircraft Certification Service.

[FR Doc. 2013-24077 Filed 10-1-13; 8:45 am]

BILLING CODE 4910-13-P